DEPARTMENT OF THE INTERIOR

Bureau of Land Management

[[223.LLUT980300.L12200000.NPM0000]

Notice of Public Meetings, Utah Resource Advisory Council, Utah

AGENCY: Bureau of Land Management, Interior.

ACTION: Notice of public meetings.

SUMMARY: In accordance with the Federal Land Policy and Management Act of 1976, the Federal Advisory Committee Act, and the Federal Lands Recreation Enhancement Act, the U.S. Department of the Interior, Bureau of Land Management (BLM) Utah Resource Advisory Council will meet as indicated below.

DATES: The Utah Resource Advisory Council will hold meetings on Oct. 19, 2022, Jan. 18, 2023, and May 17, 2023, with a field tour on May 18, 2023. Each meeting will be held in-person with a virtual participation option. All meetings will occur from 8 a.m. to 5 p.m. Public comments will be received from 4 p.m. to 4:30 p.m. each meeting day. The meetings are open to the public.

ADDRESSES: The Oct. 19 meeting will be held at the BLM Utah West Desert District Office, 491 North John Glenn Road, Salt Lake City, UT 84116. The Jan. 18 meeting will be held at the BLM Utah Green River District Office, 170 South 500 East, Vernal, UT 84078. The May 17 meeting will be held at the BLM Utah Color Country District Office, 176 East D.L. Sargent Drive, Cedar City, UT 84721. The May 18 field tour will visit wind and solar farms in Milford, Utah. The agenda and in-person/virtual meeting access information will be posted on the Utah Resource Advisory Council web page 30 days before each meeting at: https://www.blm.gov/get-involved/resource-advisory-council/near-you/utah/RAC. Participants wishing to virtually attend the meeting should register 24 hours in advance of the start time(s). Written comments to address the Utah Resource Advisory Council may be sent in advance of the meeting(s) to the BLM Utah State Office, Attention: Melissa Schnee, 440 West 200 South, Suite 500, Salt Lake City, Utah 84101, or via email to: BLM___UT___External___Affairs@blm.gov with the subject line “Utah RAC Meeting.”

FOR FURTHER INFORMATION CONTACT: Melissa Schnee, Public Affairs Specialist, BLM Utah State Office, 440 West 200 South, Suite 500, Salt Lake City, Utah 84101; phone (801) 539-4001; or email mschnee@blm.gov. Individuals in the United States who are deaf, deafblind, hard of hearing, or have a speech disability may dial 711 (TTY, TDD, or TeleBraille) to access telecommunications relay services. Individuals outside the United States should use the relay services offered within their country to make international calls to the point-of-contact in the United States. Please contact Melissa Schnee for reasonable accommodations to participate.

SUPPLEMENTARY INFORMATION: The Utah Resource Advisory Council provides recommendations to the Secretary of the Interior, through the BLM, on a variety of public lands issues. Agenda topics for the October meeting include updates and/or discussions about BLM Utah priorities, district planning efforts, BLM Utah advisory councils, monument planning efforts, BLM and U.S. Department of Agriculture Forest Service (USDA Forest Service) recreation fee proposals, implementation of the Bipartisan Infrastructure Law, the fire and fuels program, and other issues as appropriate. Agenda topics for the January meeting include updates and/or discussions about BLM Utah priorities; district planning efforts; BLM and USDA Forest Service recreation fee proposals; the recreation program; monument planning efforts; the wild horse and burro program; lands and realty projects; implementation of the John D. Dingell, Jr. Conservation, Management, and Recreation Act; and other issues as appropriate. Agenda topics for the May meeting include updates and/or discussions about BLM Utah priorities, district planning efforts, recreation business plans, BLM and USDA Forest Service recreation fee proposals, the cultural site stewardship program, the fire and fuels program, implementation of the Bipartisan Infrastructure Law, the energy program, and other issues as appropriate. The May 18 field tour will commence at 8 a.m. Participants will meet at the BLM Utah Color Country District Office. Members of the public are welcome on field tours but must provide their own transportation and meals. Individuals who plan to attend the field tour must RSVP at least one week in advance of the field tour with the person listed in the FOR FURTHER INFORMATION CONTACT section of this notice. Additional details about the field tour will be posted to the Utah Resource Advisory Council web page at least two weeks prior to the tour date. The field tour will follow applicable Centers for Disease Control and Prevention COVID-19 guidance regarding social distancing and wearing of masks. The Utah Resource Advisory Council will offer a 30-minute public comment period at each meeting. There will not be a public comment period during the field tour. Depending on the number of people wishing to comment, the amount of time for individual oral comments may be limited. Written comments may also be submitted to the BLM Utah State Office in advance of the meeting(s) to the attention of Melissa Schnee at the address listed in the ADDRESSES section of this notice. All comments received will be provided to the Utah Resource Advisory Council members.

Meeting Accessibility/Special Accommodations: Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Public Disclosure of Comments: Before including your address, phone number, email address, or other personal identifying information in your comment, you should be aware your entire comment—including your personal identifying information—may be made publicly available at any time. While you can ask us in your comment to withhold your personal identifying information from public review, we cannot guarantee we will be able to do so.

Detailed minutes for the Utah Resource Advisory Council meeting will be maintained in the BLM Utah State Office and will be available for public inspection and reproduction during regular business hours within 90 days following the meeting. Detailed meeting minutes will also be posted to the Utah Resource Advisory Council web page.

(Authority: 43 CFR 1784.4-2)

Gregory Sheehan,
State Director.

[FR Doc. 2022-19378 Filed 9-7-22; 8:45 am]

BILLING CODE 4331-25-P